DEPARTMENT OF THE INTERIOR

Fish and Wildlife Service

50 CFR Part 17

Endangered and Threatened Wildlife and Plants; Status of the Rio Grande Cutthroat Trout

AGENCY: Fish and Wildlife Service, Interior.

ACTION: Status review; reopening of public comment period.

SUMMARY: We, the U.S. Fish and Wildlife Service (Service), announce the reopening of the public comment period on our review of the Rio Grande cutthroat trout (Oncorhynchus clarki virginalis) to determine if candidate status is warranted. The Endangered Species Act of 1973, as amended (Act), requires that we identify species of wildlife and plants that are endangered or threatened, based on the best available scientific and commercial information. Through the Federal rulemaking process, we add these species to the List of Endangered and Threatened Wildlife at 50 CFR 17.11 or the List of Endangered or Threatened Plants at 50 CFR 17.12. As part of this program, we maintain a list of species that we regard as candidates for listing. A candidate is one for which we have on file sufficient information on biological vulnerability and threats to support a proposal to list as endangered or threatened but for which preparation and publication of a proposal is precluded by higher-priority listing actions. During or prior to April of 2008, we will make a determination concerning the results of the status review for the Rio Grande cutthroat trout and, shortly thereafter, we will publish this determination in the Federal Register.

Comments previously submitted on the status of the Rio Grande cutthroat trout need not be resubmitted as they have been incorporated into the public record and will be fully considered in preparation of the final revised status review.

DATES: We will accept comments and information from all interested parties for our use in the status review and in preparing a revised finding until September 17, 2007.

ADDRESSES: If you wish to comment, you may submit your comments and materials by any of the following methods:

1. You may mail or hand-deliver your written comments and information to Wally “J” Murphy, Field Supervisor, U.S. Fish and Wildlife Service, New Mexico Ecological Services Field Office, 2105 Osuna NE., Albuquerque, NM 87113.

2. You may fax your comments to Wally “J” Murphy, Field Supervisor, New Mexico Ecological Services Field Office, at (505) 346-2542.

3. You may send comments by electronic mail (e-mail) to R2FWE_AL@fws.gov.

4. You may go to the Federal eRulemaking Portal: http://www.regulations.gov. Follow the instructions for submitting comments.

Comments and materials received, as well as supporting documentation used in the preparation of the candidate status review, will be available for public inspection, by appointment, during normal business hours at the New Mexico Ecological Services Field Office, at the street address above (telephone: (505) 346-2525).

FOR FURTHER INFORMATION CONTACT: Wally “J” Murphy, Field Supervisor, New Mexico Ecological Services Field Office (see ADDRESSES) (telephone: (505) 346-2525; facsimile: (505) 346-2542). Persons who use a telecommunications device for the deaf (TDD) may call the Federal Information Relay Service (FIRS) at (800) 877-8339.

SUPPLEMENTARY INFORMATION:

Background

For background information on the events leading to our notice of intent to initiate a status review for the Rio Grande cutthroat trout, refer to our notice published in the Federal Register on May 22, 2007 (72 FR 28664).

Request for Information

On May 22, 2007, we published a notice of intent to initiate a candidate status review for the Rio Grande cutthroat trout (72 FR 28644). We accepted public comments for inclusion in the status review for 45 days, ending July 6, 2007. In response to requests from interested parties, we are reopening the comment period for an additional 30 days (see DATES) to offer all interested parties an opportunity to submit data and information for inclusion in our status review for this species.

Our determination of candidate status for the Rio Grande cutthroat trout must be based upon the best available scientific and commercial data, as required under section 4(b)(1)(A) of the Act (16 U.S.C. 1531 et seq.). We request that you submit any information on the Rio Grande cutthroat trout not previously submitted for our review. We are particularly interested in any relevant information gathered since June 2002 concerning the following:

(1) Current population status (e.g., population estimates, age-structure, trend) for any of the populations of the Rio Grande cutthroat trout, including methodology used for population estimation and confidence intervals if available;

(2) Rio Grande cutthroat trout's susceptibility to whirling disease, and distribution of Rio Grande cutthroat trout infected by whirling disease in New Mexico and Colorado;

(3) Distribution of Tubifix tubifix (tubificid worms), an intermediate host of the parasite known to cause whirling disease in trout, and the susceptibility of these worms to the parasite in the streams of New Mexico and Colorado;

(4) Genetic classification of any Rio Grande cutthroat trout population(s);

(5) Condition of occupied habitat;

(6) Restoration projects that have been completed, including translocation, new barrier construction or barrier repair, habitat improvement projects, or nonnative trout removal projects;

(7) Results of barrier surveys;

(8) Distribution of nonnative trout or their population size and structure in streams currently occupied by Rio Grande cutthroat trout;

(9) Status of any of the thirteen “core” populations identified in the 2002 status review (see 67 FR 39936);

(10) Current and future threats to Rio Grande cutthroat trout populations and remaining habitat areas;

(11) Other regulatory mechanisms that address those threats; and the success of those mechanisms to date; and

(12) Whether any portion of the range of the species is a significant portion of the range, and whether there are threats in that portion sufficient to meet the standards for listing under the Act.

Our candidate status review will take into consideration all comments and any additional information received, including all previous comments and information submitted during the 2002 candidate status review. As such, information provided during the previous status review does not need to be resubmitted.

If you are submitting e-mail comments, please include “Attn: Rio Grande cutthroat trout” in your e-mail subject header. If you do not receive a confirmation from the system that we have received your e-mail, contact us directly by calling our New Mexico Ecological Services Field Office at (505) 346-2525. Please note that comments must be received by the date specified in the DATES section in order to be considered and that the e-mail address (R2FWE_AL@fws.gov) will be unavailable at the termination of the public comment period.

Before including your address, phone number, e-mail address, or other personal identifying information in your comment, you should be aware that your entire comment—including your personal identifying information—may be made publicly available at any time. While you can ask us in your comment to withhold your personal identifying information from public review, we cannot guarantee that we will be able to do so.

Author

The primary author of this notice is the staff of the U.S. Fish and Wildlife Service's Southwest Ecological Services Regional Office.

Authority

The authority for this action is the Endangered Species Act of 1973 (16 U.S.C. 1531 et seq.).

Dated: August 10, 2007.
H. Dale Hall,
Director, U.S. Fish and Wildlife Service.

[FR Doc. E7-16144 Filed 8-15-07; 8:45 am]

BILLING CODE 4310-55-P